CONSUMER PRODUCT SAFETY COMMISSION

Sunshine Act Meeting Notices

TIME AND DATE: Wednesday, November 17, 2021, 10:00 a.m.-11:00 a.m.

PLACE: This meeting will be held remotely.

STATUS: Commission Meeting—Open to the Public.

MATTERS TO BE CONSIDERED: Briefing Matter.

Proposed Rule: Safety Standard for Magnets.

All attendees and participants should pre-register for the Commission meeting (Webinar). To pre-register for the Webinar, please visit https://attendee.gotowebinar.com/register/3338735646402245132 and fill in the information. After registering you will receive a confirmation email containing information about joining the webinar.

TIME AND DATE: Thursday, November 18, 2021; 10:00 a.m.-11:00 a.m.

PLACE: This meeting will be held remotely.

STATUS: Commission Meeting—Open to the Public.

MATTERS TO BE CONSIDERED: Briefing Matter.

Notices of Proposed Rulemaking to (1) Add Window Covering Cords to the Substantial Product Hazard List, and (2) Establish a Safety Standard for Operating Cords on Custom Window Coverings.

All attendees and participants should pre-register for the Commission Meeting (Webinar). To pre-register for the Webinar, please visit https://attendee.gotowebinar.com/register/8154835170084361484 and fill in the information. After registering you will receive a confirmation email containing information about joining the webinar.

TIME AND DATE: Wednesday, December 1, 2021; 10:00 a.m.-11:00 a.m.

PLACE: This meeting will be held remotely.

STATUS: Commission Meeting—Open to the Public.

MATTERS TO BE CONSIDERED: Briefing Matter.

Final Rule: Safety Standard for Crib Mattresses.

All attendees and participants should pre-register for the Commission Meeting (Webinar). To pre-register for the Webinar, please visit https://attendee.gotowebinar.com/register/1901446349992111372 and fill in the information. After registering you will receive a confirmation email containing information about joining the webinar.

TIME AND DATE: Thursday, December 2, 2021; 10:00 a.m.-11:00 a.m.

PLACE: This meeting will be held remotely.

STATUS: Commission Meeting—Open to the Public.

MATTERS TO BE CONSIDERED: Briefing Matter.

Proposed Safety Standard for Clothing Storage Units.

All attendees and participants should pre-register for the Commission Meeting (Webinar). To pre-register for the Webinar, please visit https://attendee.gotowebinar.com/register/1633968156303028748 and fill in the information. After registering you will receive a confirmation email containing information about joining the webinar.

CONTACT PERSON FOR MORE INFORMATION: Alberta E. Mills, Office of the Secretary, U.S. Consumer Product Safety Commission, 4330 East West Highway, Bethesda, MD 20814, 301-504-7479 (Office) or 240-863-8938 (Cell).

Dated: November 9, 2021.
Alberta E. Mills,
Commission Secretary.

[FR Doc. 2021-24917 Filed 11-10-21; 11:15 am]

BILLING CODE 6355-01-P